DEPARTMENT OF HEALTH AND HUMAN SERVICES

Administration for Children and Families

Correction to Notice Published 12/13/2017

Title: Adoption and Foster Care Analysis Reporting System for title IV-B and title IV-E (AFCARS).

OMB No.: 0970-0422.

Description: The notice, vol. 82, page 58615, published 12/13/2017 was an erroneous re-publication of a notice published on 10/20/2017 at vol. 82, page 48821. No additional comments are being solicited at this time. We regret the confusion it may have caused.

Robert Sargis,
Reports Clearance Officer.

[FR Doc. 2017-27479 Filed 12-20-17; 8:45 am]

BILLING CODE 4184-01-P